DEPARTMENT OF LABOR

Employment and Training Administration

[TA-W-51,194]

Weyerhaeuser Company, Plymouth, North Carolina; Notice of Negative Determination Regarding Application for Reconsideration

By application of July 17, 2003, two petitioner requested administrative reconsideration of the Department's negative determination regarding eligibility to apply for Trade Adjustment Assistance (TAA), applicable to workers and former workers of the subject firm. The denial notice was signed on June 13, 2003, and published in the Federal Register on July 3, 2003 (68 FR 39976).

Pursuant to 29 CFR 90.18(c) reconsideration may be granted under the following circumstances:

(1) If it appears on the basis of facts not previously considered that the determination complained of was erroneous;

(2) if it appears that the determination complained of was based on a mistake in the determination of facts not previously considered; or

(3) if in the opinion of the Certifying Officer, a mis-interpretation of facts or of the law justified reconsideration of the decision.

The petition for the workers of Weyerhaeuser Company, Plymouth, North Carolina was denied because the “contributed importantly” group eligibility requirement of Section 222 of the Trade Act of 1974, as amended, was not met. The company did not import fluff pulp, packaging liner and corrugated filler products, and uncoated freesheet in the relevant period nor did it shift production to a foreign country.

The initial investigation established that most of the layoffs are attributable to the shutdown of machinery for corrugated packaging filler. Corrugated packaging filler and linerboard produced is sold within the Weyerhaeuser Company. Fluff pulp produced at the subject firm was mostly exported, and there were no significant declines associated with the production of uncoated freesheet.

Two requests for reconsideration were received from separate petitioners on the same day. One petitioner includes copies of newspaper articles that draw particular attention to industry experts indicating that the market timber and paper products, including fluff pulp and fine paper are shifting from the U.S. to foreign sources. Another petitioner alleges that, for years, the company has been reporting that paper product declines are attributable to import competition.

In order to establish import impact, the Department must consider imports that are like or directly competitive with those produced at the subject firm. As all of the production of corrugated packaging filler was used to supply internal demand, and the company reported no imports, there is no evidence of import impact in regard to this product in conjunction with an assessment of eligibility for affected workers at the subject plant. Further, an examination of associated aggregate U.S. Trade data revealed that there was no increase of imports in the relevant period.

The petitioners state that the paper packaging components produced by the subject firm have been displaced as a result of an increase in imports of packaged goods.

As noted above, the Department considers imports of like or directly competitive products (in this case, corrugated packaging filler, as the initial investigation established that layoffs are predominantly attributable to the shut down of this product) when conducting TAA investigations. Thus, although the products produced by the subject firm workers may be indirectly import impacted, the import impact of packaged goods is not relevant to an investigation of eligibility for trade adjustment assistance on behalf of subject firm workers producing corrugated packaging filler.

Conclusion

After review of the application and investigative findings, I conclude that there has been no error or misinterpretation of the law or of the facts which would justify reconsideration of the Department of Labor's prior decision. Accordingly, the application is denied.

Signed at Washington, DC, this 24th day of July, 2003.
Elliott S. Kushner,
Certifying Officer, Division of Trade Adjustment Assistance.

[FR Doc. 03-20111 Filed 8-6-03; 8:45 am]

BILLING CODE 4510-30-P